DEPARTMENT OF THE INTERIOR

Bureau of Land Management

[OR-65891, LLORB00000-L51010000-ER0000-LVRWH09H0560; HAG-11-0077]

Notice of Availability of the Final Environmental Impact Statement for the North Steens Transmission Line Project in Harney County, OR

AGENCY: Bureau of Land Management, Interior.

ACTION: Notice of Availability.

SUMMARY: In accordance with the National Environmental Policy Act of 1969, as amended (NEPA), and the Federal Land Policy and Management Act of 1976, as amended, the Bureau of Land Management (BLM) has prepared a Final Environmental Impact Statement (EIS) for the North Steens Transmission Line Project and by this notice is announcing its availability.

DATES: The BLM will not issue a final decision on the proposal for a minimum of 30 days from the date that the Environmental Protection Agency publishes its notice of availability of this Final EIS in the Federal Register.

ADDRESSES: Notices of Availability of the Final EIS for the North Steens Transmission Line Project will be mailed to individuals, agencies, organizations, or companies who responded to the BLM on the Draft EIS. Compact discs of the Final EIS are available on request from the BLM Burns District Office, 28910 Hwy 20 West, Hines, Oregon 97738, phone (541) 573-4400, or e-mail: OR_Burns_NS_Transmission_Line_EIS@blm.gov. Interested persons may also review the Final EIS at the following Web site: http://www.blm.gov/or/districts/burns/plans/index.php.

Printed copies of the Final EIS are available for public inspection at:

• Harney County Library, 80 West “D” Street, Burns, Oregon 97720;

• Bend Public Library, Reference Department, 601 NW. Wall Street, Bend, Oregon 97701;

• Multnomah County Library, Government Documents, 801 SW. 10th Avenue, Portland, Oregon 97205; and

• BLM Burns District Office at the address listed above.

FOR FURTHER INFORMATION CONTACT: Skip Renchler, North Steens Transmission Line Project Lead, telephone (541) 573-4400; address 28910 Hwy 20 West, Hines, Oregon 97738; or e-mail OR_Burns_NS_Transmission_Line_EIS@blm.gov.

SUPPLEMENTARY INFORMATION: The applicant, Echanis, LLC, has filed applications for rights-of-way (ROWs) with the BLM and the U.S. Fish and Wildlife Service for construction, operation, maintenance, and termination of a 29-mile-long, 230-kilovolt (kV) transmission line that would connect the proposed Echanis Wind Energy Project, located on private land on the north end of Steens Mountain, with Harney Electric Cooperative's existing transmission system near Diamond Junction, Oregon. A Draft EIS analyzing impacts of the project was released for public comment on July 16, 2010, as announced by the BLM's publication of a Notice of Availability in the Federal Register (75 FR 41514). The BLM received 258 comments about the Draft EIS. The comments were incorporated, where appropriate, to clarify the analysis presented in the Final EIS. The Final EIS analyzes three alternatives: Two alternatives granting the ROW and a no-action alternative. These alternatives include:

Alternative A—No-Action—This alternative includes denying a ROW for construction and operation of a transmission line and associated facilities across lands administered by the BLM and the Malheur National Wildlife Refuge.

Alternative B—Proposed Action—West Route—This alternative includes the granting of a ROW for construction and operation of a 230-kV transmission line and associated facilities across lands administered by the BLM and the Malheur National Wildlife Refuge from the Echanis Wind Energy Project substation to Harney Electric Cooperative's existing 115-kV transmission line near Diamond Junction, Oregon. Included in the analysis of this alternative are two additional minor route deviations.

Alternative C—Preferred Alternative—North Route—This alternative includes the granting of a ROW for construction and operation of a 230-kV transmission line and associated facilities across lands administered by the BLM from the Echanis Wind Energy Project substation to Harney Electric Cooperative's existing 115-kV transmission line near Crane, Oregon. This alternative is the Preferred Alternative in the Final EIS.

The Final EIS also identifies and analyzes measures to mitigate adverse impacts for each alternative. Because the Echanis Wind Energy Project and other associated developments on private land are “connected actions” under NEPA, they are included and analyzed in the Final EIS.

Comments on the Draft EIS received from the public and internal BLM review were considered and incorporated as appropriate into the Final EIS. The comments were incorporated, where appropriate, to clarify the analysis presented in the Final EIS.

Authority: 40 CFR 1506.6, 40 CFR 1506.10.

Kenny McDaniel,
BLM Burns District Manager.

[FR Doc. 2011-27146 Filed 10-20-11; 8:45 am]

BILLING CODE 4310-33-P